OFFICE OF THE UNITED STATES TRADE REPRESENTATIVE

Guidelines for Ensuring and Maximizing the Quality, Objectivity, Utility, and Integrity of Information Disseminated by the Office of the United States Trade Representative

AGENCY: Office of the United States Trade Representative.

ACTION: Notice; request for comments.

SUMMARY: The Office of the United States Trade Representative (“USTR”) is seeking written comments from the public concerning the agency's draft Information Quality Guidelines. These Information Quality Guidelines describe USTR's pre-dissemination information quality control and the proposed administrative mechanism for requests for correction of information publicly disseminated by USTR.

DATES: USTR will accept comments received on or before June 5, 2002.

ADDRESSES: Submit comments to Richard Kristobek, Office of Computer Operations, Room F203, Office of the United States Trade Representative, 600 17th Street, NW, Washington, DC 20508. Comments will also be accepted via electronic mail at USTRIQG@ustr.gov.

FOR FURTHER INFORMATION CONTACT: Richard Kristobek, Acting Director, Office of Computer Operations, Office of the United States Trade Representative, 600 17th Street, NW, Washington, DC (202) 395-5140.

SUPPLEMENTARY INFORMATION: The USTR draft Information Quality Guidelines are posted on the USTR website, www.ustr.gov.

Richard F. Kristobek,
Acting Director, Office of Computer Operations.

[FR Doc. 02-11150 Filed 5-3-02; 8:45 am]

BILLING CODE 3190-01-P